DEPARTMENT OF TRANSPORTATION

Federal Aviation Administration

[Summary Notice No. PE-2001-19]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption part 11 of Title 14, Code of Federal Regulations (14 CFR), this notice contains a summary of certain petitions seeking relief from specified requirements of 14 CFR, dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before April 4, 2001.

ADDRESSES: Send comments on any petition in triplicate to: Federal Aviation Administration, Office of the Chief Counsel, Attn: Rule Docket (AGC-200), Petition Docket No. __, 800 Independence Avenue, SW., Washington, DC 20591.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Forest Rawls, (202) 267-8033, or Vanessa Wilkins (202) 267-8029, Office of Rulemaking (ARM-1), Federal Aviation Administration, 800 Independence Avenue, SW., Washington, DC 20591.

This notice is published pursuant to §§ 11.85 and 11.91.

Issued in Washington, DC, on March 9, 2001.
Donald P. Byrne,
Assistant Chief Counsel for Regulations.

Petition for Exemption

Docket No.: 30110.

Petitioner: The Boeing Company.

Section of the 14 CFR Affected: 14 CFR 43.1.

Description of Relief Sought: To permit Boeing to perform maintenance on newly manufactured airplanes after the issuance of an airworthiness certificate but before delivery to the customer under Boeing's production certificate instead of its repair station certificate.

Docket No.: 29337.

Petitioner: Air San Luis.

Section of the 14 CFR Affected: 14 CFR 135.163 and 135.181.

Description of Relief Sought/Disposition: To permit ASL to conduct passenger-carrying operations in single-engine airplanes in certain, limited instrument flight rules (IFR) conditions as were permitted previously by §§ 135.103 and 135.181 before the adoption of Amendment No. 135-70. In addition, the proposed exemption would allow ASL to conduct such operations without equipping its airplanes with (1) two independent electrical power-generating sources, or a standby battery or alternate source of electrical power; and (2) a redundant energy system for gyroscopic instruments.

Denial, 02/16/2001, Exemption No. 7449

Docket No.: 29324.

Petitioner: Centurion Flight Services, Inc.

Section of the 14 CFR Affected: 14 CFR 135.163, 135.181, and 135.421.

Description of Relief Sought/Disposition: To permit CFS to allow the conduct of passenger carrying single-engine aircraft in instrument flight rules (IFR) conditions in the same manner as was permitted by 14 CFR §§ 135.103 and 135.181 prior to the adoption of Amendment 135-70. In addition, the proposed exemption would allow CFS to conduct such operations without equipping its airplanes with (1) two independent electrical power-generating sources, or a standby battery or alternate source of electrical power; and (2) a redundant energy system for gyroscopic instruments.

Denial, 02/08/2001, Exemption No. 7442

Docket No.: 28295.

Petitioner: Delta Engineering, L.P.

Section of the 14 CFR Affected: 14 CFR 21.439(a)(2) and (3).

Description of Relief Sought/Disposition: To permit Delta Engineering to obtain a designated alteration station (DAS) authorization for alterations on all aircraft type certificated under 14 CFR 23, 25, 27, and 29 and their predecessor parts.

Denial, 02/08/2001, Exemption No. 7439

Docket No.: 29270.

Petitioner: Boeing Company.

Section of the 14 CFR Affected: 14 CFR 21.325(b)(3).

Description of Relief Sought/Disposition: To permit Boeing to issue export airworthiness approvals for Class II and Class III products manufactured in Canada by Boeing Toronto, Ltd., as an approved supplier to Boeing under Boeing's production certificate No. 700.

Grant, 02/13/2001, Exemption No. 6860A

Docket No.: 30145.

Petitioner: Bergstrom Airmotive, Inc.

Section of the 14 CFR Affected: 14 CFR 145.37(b).

Description of Relief Sought/Disposition: To permit Bergstrom to qualify for a part 145 repair station certificate without having suitable permanent housing for at least one of the heaviest aircraft within the weight class of the rating it seeks.

Grant, 02/12/2001, Exemption No. 7444

Docket No.: 29321.

Petitioner: Atkin Air Charter Service.

Section of the 14 CFR Affected: 14 CFR 135.163 and 135.181.

Description of Relief Sought/Disposition: To permit Atkin to conduct passenger-carrying operations in single-engine airplanes in certain, limited instrument flight rules (IFR) conditions as were permitted previously by §§ 135.103 and 135.181 before the adoption on Amendment No. 135-70. In addition, the proposed exemption would allow Atkin to conduct such operations without equipping its airplanes with (1) Two independent electrical power-generating sources, or a standby battery or alternate source of electrical power; and (2) a redundant energy system for gyroscopic instruments.

Denial, 02/16/2001, Exemption No. 7450

Docket No.: 29387.

Petitioner: Loyd's Aviation Services, Inc.

Section of the 14 CFR Affected: 14 CFR 135.163 and 135.181.

Description of Relief Sought/Disposition: To permit LAS to conduct passenger-carrying operations in single-engine airplanes in certain, limited instrument flight rules (IFR) conditions as were permitted by §§ 135.103 and 135.181 before the adoption of Amendment No. 135-70. In addition, the proposed exemption would allow LAS to conduct such operations without equipping its airplanes with (1) Two independent electrical power-generating sources, or a standby battery or alternate source of electrical power; and (2) a redundant energy system for gyroscopic instruments.

Denial, 02/12/2001, Exemption No. 7445

[FR Doc. 01-6380 Filed 3-14-01; 8:45 am]

BILLING CODE 4910-13-M